DEPARTMENT OF DEFENSE

Department of the Navy

Notice of Public Meeting for the Draft Environmental Impact Statement for the Proposed Bremerton Waterfront Infrastructure Improvements at Puget Sound Naval Shipyard and Intermediate Maintenance Facility, Naval Base Kitsap-Bremerton (EISX-007-17-USN-1654671600)

AGENCY: Department of the Navy (DoN), Department of Defense (DoD).

ACTION: Notice.

SUMMARY: Pursuant to the National Environmental Policy Act (NEPA), the U.S. Department of the Navy (DoN), as the lead agency, has prepared and filed with the U.S. Environmental Protection Agency (EPA) a Draft Environmental Impact Statement (DEIS) which evaluates the potential environmental impacts of constructing and operating a new multi-mission dry dock (M2D2) and associated waterfront infrastructure improvements at Puget Sound Naval Shipyard and Intermediate Maintenance Facility (PSNS & IMF) on Naval Base Kitsap-Bremerton. The Proposed Action also includes dredging to create adequate water depth at wharves and piers and as required for construction of new structures. Some existing upland shipyard functions affected by construction at PSNS & IMF would be moved to Naval Base Kitsap-Bangor. The U.S. Army Corps of Engineers, Seattle District and the EPA, Region 10 are cooperating agencies with the DoN in the preparation of the EIS. The DoN also worked closely with the Suquamish Indian Tribe of the Port Madison Reservation, Skokomish Indian Tribe, Port Gamble S'Klallam Tribe, Jamestown S'Klallam Tribe, and Lower Elwha Tribal Community to develop the DEIS. The DoN published a Notice of Intent to prepare an EIS in the Federal Register on June 8, 2022 (Volume 87, number 110) that initiated a 30-day scoping period ending on July 11, 2022. The Notice of Intent discussed several projects that are no longer part of the Proposed Action. Three potential future actions—Pier 5 demolition, Pier 6 replacement, and Dry Dock 6 (DD6) seismic upgrades—are not currently funded or programmed for implementation, and a future construction schedule has not yet been determined. If the DoN decides to proceed with these potential projects at a later date, the DoN will analyze potential environmental impacts in accordance with NEPA requirements and Navy implementation policies.

DATES: With the filing of the DEIS, the DoN is initiating a 45-day public review and comment period on the DEIS beginning on July 18, 2025 and ending on September 3, 2025. The public can submit comments during the DEIS public review and comment period, during the in-person public meeting, online at the project website, by email, or by U.S. mail. All comments must be postmarked or submitted electronically by 11:59 p.m. Pacific Time on September 3, 2025 to be considered in the development of the Final EIS. Concurrently, the Navy is conducting a Section 106 process under the National Historic Preservation Act, or NHPA that requires federal agencies to consider the effects projects may have on historic properties. The public can submit written comments for the Section 106 process during this public review and comment period.

One public meeting will be held in the form of an open house session to allow interested individuals to review information presented in the DEIS. DoN representatives will be available during the open house session to provide information and answer questions about the Proposed Action and environmental analysis. There will not be a formal presentation. The public meeting is scheduled for the following date, time and location:

1. Thursday, August 7, 2025, from 5:00 p.m. to 8:00 p.m. Pacific Time at the Marvin Williams Recreation Center; 725 Park Avenue, Bremerton, WA 98337.

ADDRESSES: The DoN invites all interested parties to submit comments on the Bremerton Waterfront Infrastructure Improvements DEIS during the public review and comment period ending on September 3, 2025. Comments may be received:

• at the in-person public meeting;

• electronically through the project website: BremertonWaterfrontImprovementsEIS.com;

• electronically through email: info@BremertonWaterfrontImprovementsEIS.com; or

• by mail to Naval Facilities Engineering Systems Command Northwest; Attention: EIS Project Manager, 1101 Tautog Circle, Room 210, Silverdale, Washington 98315.

FOR FURTHER INFORMATION CONTACT: Navy Region Northwest, 1100 Ramirez de Arellano Road, Room 213, Silverdale, WA 98315, Attention: Ms. Julianne Leinenveber, Public Affairs Specialist, 360-867-8525, julianne.e.leinenveber.civ@us.navy.mil, or visit the project website at https://BremertonWaterfrontimprovementseis.com.

SUPPLEMENTARY INFORMATION: PSNS & IMF is the DoN's primary provider for the maintenance, repair, modernization, inactivation, and recycling of ships, submarines, and aircraft carriers in the Pacific Fleet. PSNS & IMF is the only DoN shipyard on the West Coast with a dry dock that can accommodate nuclear-powered aircraft carriers for repair and maintenance. Additionally, PSNS & IMF is the only DoN shipyard that is approved to recycle nuclear nuclear-powered submarines.

Much of the infrastructure at PSNS & IMF is over 100 years old and was primarily designed for building and maintaining ship classes that are no longer part of the Naval fleet. Other than the construction of DD6 in the early 1960s, the shipyard has had few major infrastructure updates since World War II, which has led to significant ship maintenance delays.

The purpose of the Proposed Action is to address critical deficiencies in dry dock capability, capacity, and seismic survivability at Naval Base Kitsap-Bremerton to enable PSNS & IMF to meet its mission to support the DoN's nuclear fleet. The Proposed Action is needed because: (1) PSNS & IMF does not have the dry dock capability to support the DoN's newest Ford-class carriers; (2) PSNS & IMF does not have the dry dock and pier capacity to conduct the required future overhauling, refueling, inactivating, and recycling of nuclear-powered ships, and PSNS & IMF must also maintain the capacity to perform emergent work such as battle damage repair; and (3) PSNS & IMF has the only dry dock on the West Coast that can accommodate a nuclear-powered aircraft carrier, and it does not meet seismic criteria under the DoD safety certification program nor under the DoD Unified Facilities Criteria.

The DEIS analyzes two action alternatives that meet the purpose of and need for the Proposed Action and the No Action alternative. Under the No Action alternative, Alternative 1, there would be no change from the status quo. The action alternatives (Alternatives 2 and 3) are differentiated by the location of the new M2D2 and the locations of various infrastructure improvements.

Under Alternative 2, the DoN would construct a new M2D2 on the east side of PSNS & IMF, at the location of existing DD3. A new forge shop and expanded Radio Hill complex would be constructed at Naval Base Kitsap-Bangor. The DoN would also demolish Piers 4, 6 and 7, deconstruct and remove the Hammerhead Crane on Pier 6, and construct a new Pier 2. The DoN would replace Pier 4 with a new pier. Pier 6 would be replaced with the new Wharf 6 at the M2D2 west wall and Pier 7 would be replaced with the new Wharf 7 at the M2D2 east wall.

Under Alternative 3, the DoN would construct an M2D2 in the center of the PSNS & IMF waterfront, at the current location of Mooring A. The DoN would also demolish Mooring A and Pier 4 and deconstruct and remove the Hammerhead Crane on Pier 6. The DoN would replace Pier 4 with a new pier. The Radio Hill complex at Naval Base Kitsap-Bangor would be expanded.

Both alternatives would require dredging to create adequate water depth at wharves and piers and as required for construction of new structures, but Alternative 3 would also require dredging to create a turning basin. Temporary construction methods include 18 temporary mooring buoys, an off-site contractor multi-use site(s) and a temporary construction access pier as well as caisson transport to the project location. Alternative 2 would also require a temporary cofferdam. Alternative 2 is the DoN's preferred alternative because it would have fewer environmental impacts than Alternative 3, based on a comparison of dredge areas, in-water fill, and net increase in overwater coverage.

The DEIS evaluates the potential environmental impacts associated with air quality, water resources, geological resources, biological resources, cultural resources, American Indian traditional resources, land use and recreation, visual resources, noise, utilities and infrastructure, transportation, marine navigation, public health and safety, hazardous materials and wastes, and socioeconomics. The analyses also evaluate the potential interaction of the Proposed Action with reasonably foreseeable future actions. The DEIS identifies various environmental commitments by the DoN to avoid, minimize, or mitigate environmental effects.

Additionally, the DoN is conducting all coordination, consultation, and permitting activities required by the Clean Water Act, Rivers and Harbors Act, Endangered Species Act, Marine Mammal Protection Act, Magnuson-Stevens Fishery Conservation and Management Act, National Historic Preservation Act, Coastal Zone Management Act, and other applicable laws and regulations. The DoN is conducting government-to-government consultations with federally recognized Tribes that could be affected by the Proposed Action.

The DEIS has been distributed to various Federal, State, local agencies and Tribes, as well as other interested individuals and organizations. In addition, copies of the DEIS have been distributed to the following libraries for public review:

1. Kitsap Regional Library, Dr. Martin Luther King Jr., 612 Fifth Street, Bremerton, WA 98337;

2. Kitsap Regional Library, Sylvan Way Branch, 1301 Sylvan Way, Bremerton, WA 98310;

3. Kitsap Regional Library, Port Orchard Branch, 87 Sidney Avenue, Port Orchard, WA 98366;

4. Kitsap Regional Library, Silverdale Branch, 3650 NW Anderson Hill Road, Suite 101, Silverdale, WA 98383;

5. Seattle Public Library, Central Library Branch, 1000 Fourth Avenue, Seattle, WA 98104.

An electronic copy of the DEIS is also available for public viewing at: BremertonWaterfrontImprovementsEIS.com.

The public involvement process is helpful in identifying public concerns and local issues to be considered during the development of the Final EIS and encouraging comments on the environmental analysis. Federal, State, and local agencies; federally recognized Tribes and Tribal groups; non-governmental organizations; and interested persons are encouraged to provide substantive comments on the Proposed Action and the environmental analysis, as well as the project's potential to affect historic properties as it relates to Section 106 of the NHPA. All comments provided at the in-person public meeting, electronically via the project website, emailed, or mailed to the addresses provided in the ADDRESSES section by 11:59 p.m. Pacific Time on September 3, 2025 will be considered during the development of the Final EIS.

Dated: July 15, 2025.
T.O. Walker,
Lieutenant Commander, Judge Advocate General's Corps, U.S. Navy, Federal Register Liaison Officer.

[FR Doc. 2025-13483 Filed 7-17-25; 8:45 am]

BILLING CODE 3810-FF-P